Title 3—

The President

Proclamation 7975 of January 20, 2006

National Sanctity of Human Life Day, 2006

By the President of the United States of America

A Proclamation

Our Nation was founded on the belief that every human being has rights, dignity, and value. On National Sanctity of Human Life Day, we underscore our commitment to building a culture of life where all individuals are welcomed in life and protected in law.

America is making great strides in our efforts to protect human life. One of my first actions as President was to sign an order banning the use of taxpayer money on programs that promote abortion overseas. Over the past 5 years, I also have been proud to sign into law the Born-Alive Infants Protection Act, the Unborn Victims of Violence Act, and a ban on partial-birth abortion. In addition, my Administration continues to fund abstinence and adoption programs and numerous faith-based and community initiatives that support these efforts.

When we seek to advance science and improve our lives, we must always preserve human dignity and remember that human life is a gift from our Creator. We must not sanction the creation of life only to destroy it. America must pursue the tremendous possibilities of medicine and research and at the same time remain an ethical and compassionate society.

National Sanctity of Human Life Day is an opportunity to strengthen our resolve in creating a society where every life has meaning and our most vulnerable members are protected and defended—including unborn children, the sick and dying, and persons with disabilities and birth defects. This is an ideal that appeals to the noblest and most generous instincts within us, and this is the America we will achieve by working together.

NOW, THEREFORE, I, GEORGE W. BUSH, President of the United States of America, by virtue of the authority vested in me by the Constitution and laws of the United States, do hereby proclaim Sunday, January 22, 2006, as National Sanctity of Human Life Day. I call upon all Americans to recognize this day with appropriate ceremonies and to reaffirm our commitment to respecting and defending the life and dignity of every human being.

IN WITNESS WHEREOF, I have hereunto set my hand this twentieth day of January, in the year of our Lord two thousand six, and of the Independence of the United States of America the two hundred and thirtieth.

B

[FR Doc. 06-781

Filed 1-24-06; 9:03 am]

Billing code 3195-01-P